DEPARTMENT OF TRANSPORTATION

Federal Aviation Administration

Aviation Rulemaking Advisory Committee; Rotorcraft Issues—New Task

AGENCY: Federal Aviation Administration (FAA), DOT.

ACTION: Notice of new task assignment for the Aviation Rulemaking Advisory Committee (ARAC).

SUMMARY: The FAA assigned the Aviation Rulemaking Advisory Committee a new task to review the definition of “Critical Part” and determine whether the current regulation provides a clear definition of critical parts and whether the regulations establish an adequate critical parts list. This notice is to inform the public of this ARAC activity.

FOR FURTHER INFORMATION CONTACT: Larry M. Kelly, Federal Aviation Administration, Southwest Region Headquarters, 2601 Meacham Blvd., Fort Worth, Texas, 76137, larry.kelly@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

• Review the definition of “Critical Part” and the critical parts requirements of §§ 27.602 and 29.602 together with JAR 27.602, 29.602, and associated amendments 27-38 and 29-45.

• Determine whether the current regulations and proposed regulations provide a clear definition of critical parts and whether the regulations establish an adequate critical parts list. Specifically, include clarification in the advisory material of the word “and” in the rules.

• Consider the safety benefits of establishing a different definition of Critical Parts for Category A rotorcraft. If a different definition for critical parts for Category A rotorcraft is to be considered for recommended rulemaking, an assessment of some existing Critical Parts Lists must consider the scope of change to those lists to determine the safety/economic impact of any expansion of the Critical Parts requirements.

• Provide a preliminary technical recommendation within 6 months after the first working group meeting.

• If a review of the safety/economic issues justifies the need for a rule change, prepare a draft Notice of Proposed Rulemaking (NPRM) and provide associated advisory material. The NPRM should include the preamble and the rule language along with any supporting legal analysis.

Schedule: ARAC must complete this task no later than 18 months after the FAA publishes the task in the Federal Register.

ARAC Acceptance of Task

ARAC accepted the task and assigned the task to the Critical Parts Harmonization Working Group, Rotorcraft Issues. The working group serves as staff to ARAC and assists in the analysis of assigned tasks. ARAC must review and approve the working group's recommendations. if ARAC accepts the working group's recommendations, it will forward them to the FAA. Recommendations that are received from ARAC will be submitted to the agency's Rulemaking Management Council to address the availability of resources and prioritization.

Working Group Activity

The Critical Parts Harmonization Working Group is expected to comply with the procedures adopted by ARAC. As part of the procedures, the working group is expected to:

1. Recommend a work plan for completion of the task, including the rationale supporting such a plan for consideration at the next meeting of the ARAC on rotorcraft issues held following publication of this notice.

2. Give a detailed conceptual presentation of the proposed recommendations prior to proceeding with the work stated in item 3 below.

3. Draft the appropriate documents and required analyses and/or any other related materials or documents.

4. Provide a status report at each meeting of the ARAC held to consider rotorcraft issues.

Participation in the Working Group

The Crital Parts Harmonization Working Group is composed of technical experts having an interest in the assigned task. A working group member need to be a representative or a member of the full committee.

An individual who has expertise in the subject matter and wishes to become a member of the working group should write to the person listed under the caption FOR FURTHER INFORMATION CONTACT expressing that desire, describing his or her interest in the task, and stating the expertise he or she would bring to the working group. All requests to participate must be received no later than August 13, 2001. The requests will be reviewed by the assistant chair, the assistant executive director, and the working group co-chairs. Individuals will be advised whether or not their request can be accommodated.

Individuals chosen for membership on the working group will be expected to represent their aviation community segment and actively participate in the working group (e.g., attend all meetings, provide written comments when requested to do so, etc.). They also will be expected to devote the resources necessary to support the working group in meeting any assigned deadlines. Members are expected to keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group co-chairs.

The Secretary of Transportation determined that the formation and use of the ARAC is necessary and in the public interest in connection with the performance of duties imposed on the FAA by law.

Meetings of the ARAC will be open to the public. Meetings of the Critical Parts Harmonization Working Group will not be open to the public, except to the extent that individuals with an interest and expertise are selected to participate. The FAA will make no public announcement of working group meetings.

Issued in Washington, DC, on July 24, 2001.
Anthony F. Fazio,
Executive Director, Aviation Rulemaking Advisory Committee.

[FR Doc. 01-18923 Filed 7-27-01; 8:45 am]

BILLING CODE 4910-13-M